DEPARTMENT OF THE INTERIOR

National Park Service

Intent to Prepare a Draft Environmental Statement for the General Management Plan, Biscayne National Park, Florida

AGENCY: National Park Service, Interior.

ACTION: Notice of Intent to prepare a Draft Environmental Impact Statement (EIS) for the General Management Plan (GMP), Biscayne National Park, Florida.

SUMMARY: Notice is hereby given that in accordance with section 102(2)(c) of the National Environmental Policy Act of 1969 (Pub. L. 91-190, as amended), the National Park Service has begun preparation of a Draft EIS on the GMP for Biscayne National Park. The statement will assess potential environmental impacts associated with various types and levels of visitor use, and resources management within the park. Specific issues to be addressed include appropriate levels and types of visitor use at various park sites, protection of natural resources such as coral reefs and seagrass beds, protection of cultural resources, and concerns regarding land use surrounding the park.

DATES: To determine the scope of issues to be addressed in the Draft GMP and EIS and identify significant issues related to the project, a series of five public meetings were held between January 22 and January 30, 2001. Additional public meetings will be held at a later date and will be announced by local media.

Comments on this planning effort should be received no later than March 9, 2001. In addition, a newsletter with mailback form was distributed to provide information about this planning process and to obtain public input. The newsletter is posted on the Internet at www.nps.gov/bisc.

ADDRESSES: Additional comments or requests for information should be addressed to Superintendent, Biscayne National Park, 9700 SW 328th Street, Homestead, Florida 33030.

SUPPLEMENTARY INFORMATION: The draft and final environmental impact statement will be distributed to all known interested parties and appropriate agencies. Full public participation by federal, state, and local agencies as well as other concerned organizations and private citizens is invited throughout the preparation process of this document.

Biscayne National Park boundaries encompass approximately two-thirds of Biscayne Bay, protect a rare combination of terrestrial and undersea life, preserve a scenic subtropical setting and provide outstanding recreational opportunities. Proclaimed as Biscayne National Monument in 1968, the area was redesignated in 1980 as Biscayne National Park to protect both the historical and natural features. These features include the natural environment of Biscayne Bay, the subtropical marine ecosystem, populations of fish and wildlife, and submerged cultural resources. The environmental impact statement will evaluate a range of alternative methods to provide a diverse visitor experience while maximizing protection of resources and operational efficiency.

The responsible official for this environmental impact statement is Jerry Belson, Regional Director, National Park Service, Southeast Region, 100 Alabama Street, SW, 1924 Building, Atlanta, Georgia 30303.

Our practice is to make comments, including names and home addresses of respondents, available for public review during regular business hours. If you wish for us to withhold your name and/or address, you must state this prominently at the beginning of your comment. However, we will not consider anonymous comments. We will make all submissions from organizations or businesses, and from individuals identifying themselves as representatives or officials of organizations or businesses, available for public inspection in their entirety.

Dated: January 25, 2001.
W. Thomas Brown,
Regional Director, Southeast Region.

[FR Doc. 01-4309 Filed 2-20-01; 8:45 am]

BILLING CODE 4310-70-M